OFFICE OF PERSONNEL MANAGEMENT

Privacy Act of 1974; Computer Matching Program Between the Office of Personnel Management and Social Security Administration

AGENCY: Office of Personnel Management (OPM).

ACTION: Notice of a re-established matching program.

SUMMARY: Pursuant to the Privacy Act of 1974, as amended by the Computer Matching and Privacy Protection Act of 1988 and the Computer Matching and Privacy Protections Amendment of 1990 (Privacy Act), and Office of Management and Budget (OMB) guidance on the conduct of matching programs, notice is hereby given of the re-establishment of a matching program between the Office of Personnel Management (OPM) and the Social Security Administration (SSA) (Computer Matching Agreement 1018).

DATES: Please submit comments on or before April 18, 2019. The matching program will begin on April 18, 2019 unless comments have been received from interested members of the public that require modification and republication of the notice. The matching program will continue for 18 months from the beginning date and may be extended an additional 12 months if the respective agency Data Integrity Boards determine that the conditions specified in 5 U.S.C. 552a(o)(2)(D) have been met.

ADDRESSES: You may submit comments via mail to: Deon Mason, Chief, Business Services, Retirement Management and Services, Retirement Services, Office of Personnel Management, Room 3316-G, 1900 E Street NW, Washington, DC 20415, or via email at Deon.Mason@opm.gov. You may also submit comments, identified by docket number and title, at the Federal Rulemaking Portal: http://www.regulations.gov by following the instructions for submitting comments.

All submissions received must include the agency name and docket number for this document. The general policy for comments and other submissions from members of the public is to make these submissions available for public viewing at http://www.regulations.gov as they are received without change, including any personal identifiers or contact information.

FOR FURTHER INFORMATION CONTACT: Bernard A. Wells III, Retirement Services, Office of Personnel Management, at (202) 606-2730.

SUPPLEMENTARY INFORMATION: In accordance with the Privacy Act of 1974, as amended by the Computer Matching and Privacy Protection Act of 1988 and the Computer Matching and Privacy Protections Amendment of 1990 (Privacy Act), and Office of Management and Budget (OMB) guidance on the conduct of matching programs, including OMB Final Guidance Interpreting the Provisions of Public Law 100-53 (published in the Federal Register on June 19, 1989 (54 FR 25818) and OMB Circular A-108, notice is hereby given of the re-establishment of a matching program between the Office of Personnel Management (OPM) and the Social Security Administration (SSA). This matching program, Computer Matching Agreement 1018, is being re-established to redetermine and recompute the benefits of certain annuitants and survivors whose computations are based, in part, on military service performed after December 1956 under the Civil Service Retirement System (CSRS), and of certain annuitants and survivors whose annuity computation under the Federal Employees Retirement System (FERS) have a CSRS component.

Participating Agencies: OPM and SSA.

Authority for Conducting the Matching Program: OPM's authority to participate in this matching program derives from 5 U.S.C. 8332(j) and 8422(e)4 SSA is authorized to participate in this matching program pursuant to 42 U.S.C. 1306.

Purpose(s): The purpose of this matching program is to set forth the terms, conditions and safeguards under which the Social Security Administration (SSA) will disclose tax return and Social Security benefit information to the Office of Personnel Management. OPM will use the disclosed information to redetermine and recompute the benefits of certain annuitants and survivors whose computations are based, in part, on military service performed after December 1956 under the Civil Service Retirement System and of certain annuitants and survivors whose annuity computation under the Federal Employees Retirement System (FERS) have a CSRS component.

Categories of Individuals: The individuals about whom OPM maintains information that are involved in this matching program include retired Federal employees and survivors whose annuity computations are based, in part, on military service performed after December 31, 1956 and who also receive benefits from SSA.

Category of Records: The categories of records involved in the data match from OPM include information about those individuals who have applied for or are eligible for both OPM and SSA benefits as described above. OPM will provide name, SSN, date of birth, alleged dates of military service, alleged service branch, and in survivor cases, date of death of the individuals for whom OPM requests information. These elements will be matched against SSA records. SSA will provide tax information (amount of earnings and military wages for the relevant time period and Social Security benefit information, the SSN, Social Security monthly benefit amount and the amount of the SSA benefit attributable to post-1956 military service.

System(s) of Records: OPM's system of records involved in this matching program is designated OPM/Central-1, Civil Service Retirement and Insurance Records 73 FR 15013 (March 20, 2008), as amended 80 FR 74815 (November 30, 2015).

SSA's systems of records involved in this matching program is the Master Beneficiary Record (MBR), 60-0090, 71 FR 1826 (Jan. 11, 2006), as amended at 72 FR 69723 (Dec. 10, 2007), 78 FR 40542 (July 5, 2013) and 83 FR 31250-31251 (July 3, 2018). Additionally SSA will disclose data from the MEF file (60-0059, Earnings Recording and Self-Employment Income system) last fully published on January 11, 2006, at 71 FR 1819 and amended on July 5, 2013 at 78 FR 40542 and from the “1086” microfilm file, published on January 11, 2006 at 71 FR 1796.

Alexys Stanley,
Regulatory Affairs Analyst.

[FR Doc. 2019-05099 Filed 3-18-19; 8:45 am]

BILLING CODE 6325-38-P